DEPARTMENT OF HEALTH AND HUMAN SERVICES

Centers for Disease Control and Prevention

National Center for Injury Prevention and Control Initial Review Group

In accordance with section 10(a)(2) of the Federal Advisory Committee Act (Pub. L. 92-463), the Centers for Disease Control and Prevention (CDC) announce the following meeting:

Name: National Center for Injury Prevention and Control (NCIPC) Initial Review Group (IRG).

Times and Dates: 6:30 p.m.-10 p.m., April 10, 2006. 8:30 a.m.-6 p.m., April 11, 2006. 8 a.m.-5:30 p.m., April 12, 2006.

Place: Hilton Atlanta Airport and Towers, 1031 Virginia Avenue, Atlanta, Georgia 30354.

Status: Open: 6:30 p.m.-7:15 p.m., April 10, 2006.

Closed: 7:15 p.m. to 10 p.m., April 10, 2006. 8:30 a.m. to 6 p.m., April 11, 2006. 8 a.m. to 5:30 p.m., April 12, 2006.

Purpose: This group is charged with providing advice and guidance to the Secretary, Department of Health and Human Services (HHS) and the Director, CDC, concerning the scientific and technical merit of grant and cooperative agreement applications received from academic institutions and other public and private profit and nonprofit organizations, including state and local government agencies, to conduct specific injury research that focuses on injury prevention and control.

Matters to be Discussed: Agenda items include an overview of the injury program, discussion of the review process and panelists responsibilities, and the review of, and vote on, applications. Beginning at 7:15 p.m., April 10, through 5:30 p.m., April 12, the Group will review individual research grant and cooperative agreement applications submitted in response to six Fiscal Year 2006 Requests for Applications (RFAs) related to the following individual research announcements: #06001, Research Grants to Prevent Unintentional Injuries; #06002, Dissertation Grant Awards for Violence-Related Injury Prevention Research in Minority Communities; #06003, Research Grants to Describe Traumatic Brain Injury Consequences; #06004, Grants for Violence-Related Injury Prevention Research: Youth Violence, Suicidal Behavior, Child Maltreatment, Intimate Partner Violence, and Sexual Violence; #06005, Research Grants for the Care of the Acutely Injured; #06007, Evaluation of Community-based Approaches to Increasing Seat Belt Use Among Adolescent Drivers and Their Passengers.

This portion of the meeting will be closed to the public in accordance with provisions set forth in section 552b(c)(4) and (6), Title 5, U.S.C., and the Determination of the Director, Management Analysis and Services Office, CDC, pursuant to section 10(d) of Public Law 92-463.

Agenda items are subject to change as priorities dictate.

For Further Information Contact: Gwendolyn H. Cattledge, Ph.D., M.S.E.H., Executive Secretary, NCIPC IRG, CDC, 4770 Buford Highway, NE, M/S K02, Atlanta, Georgia 30341-3724, telephone 770/488-4655.

The Director, Management Analysis and Services Office has been delegated the authority to sign Federal Register Notices pertaining to announcements of meetings and other committee management activities for both CDC and the Agency for Toxic Substances and Disease Registry.

Dated: March 3, 2006.
Alvin Hall,
Director, Management Analysis and Services Office, Centers for Disease Control and Prevention.

[FR Doc. E6-3346 Filed 3-8-06; 8:45 am]

BILLING CODE 4163-18-P